OFFICE OF PERSONNEL MANAGEMENT

System of Records Notice; CyberCorps®: Scholarship For Service (SFS)

AGENCY: U.S. Office of Personnel Management (OPM).

ACTION: Notice of amendment to system of records.

SUMMARY: OPM has amended an existing system of records subject to the Privacy Act of 1974 (5 U.S.C. 552a), as amended. This amendment adds several categories of records to be collected. For participating students, additional categories of records include emergency contact information, initial funding semester/quarter, date available for post-graduation commitment, high school background, post high school education background, current certifications, cybersecurity employment Information and History, gender, ethnicity, race, and US armed forces status.

For officials from participating academic institutions, additional categories of records include SFS award information and institution demographics.

There are no changes to the categories of records collected for agency officials.

This action is necessary to meet the requirements of the Privacy Act to publish in the Federal Register notice of the existence and character of system of records maintained by the agency (5 U.S.C. 552a(e)(4)). The system has been operational since March 24, 2003 without incident.

DATES: This action will be effective without further notice on August 27, 2014 unless comments are received that would result in a contrary determination.

ADDRESSES: Send written comments to the Office of Personnel Management, ATTN: Travis McKone, CyberCorps®: Scholarship for Service Program, 200 Granby Street, Suite 500, Norfolk, VA, 23510-1886.

FOR FURTHER INFORMATION CONTACT: Kathryn Roberson, 405-259-8277.

SUPPLEMENTARY INFORMATION: The CyberCorps®: Scholarship For Service Web site (SFS) allows OPM the ability to fulfill its responsibility for the SFS program which was established by the National Science Foundation (NSF) in accordance with the Federal Cyber Service Training and Education Initiative as described in the President's National Plan for Information Systems Protection to facilitate the timely registration, selection and placement of program-enrolled students in Federal agencies.

This program seeks to increase the number of qualified students entering the fields of information assurance and computer security in an effort to respond to the threat to the Federal Government's information technology infrastructure. The program provides selected 4-year colleges and universities scholarship grants to attract students to the information assurance field.

Participating students who receive scholarships from this program are required to serve a 10-week internship during their studies and complete a post-graduation employment commitment equivalent to the length of the scholarship or one year, whichever is longer.

OPM operates this System of Records for NSF under a reimbursable (Economy Act) agreement with NSF. (NSF enters into agreements (including Memoranda of Understanding) with other U.S. government agencies, as authorized by the NSF Act, 42 U.S.C. 1870(c) and the Economy Act: 31 U.S.C. 1535, under which NSF assumes some responsibility for activities supported by these agencies. These activities can include jointly funded projects and programs, support of research operations and logistics, and access to NSF supported research facilities.)

Designated OPM personnel use SFS to update student information. The system also provides registered agency officials read-only access to student resumes to consider them for placement with their agency. Furthermore, it allows registered academic institution officials limited read-only access to information related to student participants in their program so they can determine if program requirements are being met.

Race and national origin (RNO) data will not be released to hiring officials and will only be released publicly in non-identifiable or aggregate form.

U.S. Office of Personnel Management.
Katherine Archuleta,
Director.

OPM INTERNAL-18

SYSTEM NAME:

CyberCorps®: Scholarship For Service (SFS)

SYSTEM LOCATION:

The IT infrastructure of SFS is housed at OPM's HR Tools & Technology at 4685 Log Cabin Drive, Macon, GA 31204.

CATEGORIES OF INDIVIDUALS COVERED BY THE SYSTEM:

This system contains records related to individuals selected for participation in the SFS program.

The system contains information related to:

1. Student participants & their designated emergency contact individuals.

2. Officials associated with participating academic institutions; and

3. Officials associated with participating Federal, state, local, or tribal agencies.

CATEGORIES OF RECORDS IN THE SYSTEM:

The records in the database may contain the following information related to participants:

1. STUDENT PARTICIPANTS: Full name(s), social security number (SSN), signature, date of birth, mother's maiden name, full address(s), phone number(s), email address(s), complete emergency contact information, university/college attending, degree funded, field of study, expected completion date, date available for internship, date available for post graduation commitment, high school background, post high school education background, current certifications, cybersecurity employment information and history, resume information, demographic information (gender, ethnicity, race), US armed forces status, internship and post-graduation placement information to include agency name, sub agency name, job title, salary range and pay plan/series/grade.

2. ACADEMIC INSTITUTION OFFICIAL (previously identified as Principal Investigator): The records in the database may contain the following information related to participating officials: Full name(s), signature, university/college: Department/field, address, fax number, phone number(s), email address(es), Web site, SFS award information, institution demographics.

3. AGENCY OFFICIAL: The records in the database may contain the following information related to registered agency officials: Agency name, sub agency name, full name(s), agency address(s), work location, work phone number(s), work fax number(s), work email address(s), and agency Web site.

AUTHORITY FOR MAINTENANCE OF THE SYSTEM:

The Federal Cyber Service Training and Education Initiative as described in the President's National Plan for Information Systems Protection, gives OPM the authority for maintenance of the system. The collection and use of SSNs by the system for the specified purposes is provided by Executive Order 9397 as amended by Executive Order 13478.

PURPOSE:

The information is used by OPM's Human Resource Solutions to register scholarship recipients' education and experience background and to provide this information to potential employers. Students are selected by participating universities/colleges to receive the scholarship. Once selected and approved by OPM, the student is provided instructions on how to register their resume on-line. Approved agency officials and approved university officials are then able to retrieve resumes of the scholarship recipients through a password protected Web site.

ROUTINE USES OF RECORDS MAINTAINED IN THE SYSTEM, INCLUDING CATEGORIES OF USERS AND THE PURPOSES OF SUCH USES:

These records may be used:

1. To disclose information to another Federal agency or a party in litigation before a court or in an administrative proceeding being conducted by a Federal agency, when the Government is a party to the judicial or administrative proceeding, and such information is deemed by OPM to be arguably relevant and necessary to the litigation.

2. To disclose information to the National Archives and Records Administration for use in records management inspections.

3. In the production of summary descriptive statistics and analytical studies in support of the function for which the records are collected and maintained, or for related workforce studies. While published studies do not contain individual identifiers, in some instances the selection of elements of data included in the study may be structured in such a way as to make the data individually identifiable by inference.

4. To disclose information to the Department of Justice (DOJ), or in a proceeding before a court, adjudicative body or other administrative body before which OPM is authorized to appear, when: OPM, or any component thereof; or any employee of OPM in his or her official capacity; or any employee of OPM in his or her individual capacity where DOJ or OPM has agreed to represent the employee; or the United States, when OPM determines that litigation is likely to affect OPM or any of its components; is a party to litigation or has an interest in such litigation, and the use of such records by DOJ or OPM is deemed by OPM to be arguably relevant and necessary to the litigation, provided, however, that the disclosure is compatible with the purpose for which records were collected.

5. To disclose information to officials of the Merit Systems Protection Board or the Office of the Special Counsel, when requested in connection with appeals, special studies of the civil service and other merit systems, review of OPM rules and regulations, investigations of alleged or possible prohibited personnel practices, and such other functions, e.g., as promulgated in 5 U.S.C. 1205 and 1206, or as may be authorized by law.

6. To disclose information to the Equal Employment Opportunity Commission when requested in connection with investigations into alleged or possible discrimination practices in the Federal sector, compliance by Federal agencies with the Uniform Guidelines on Employee Selection Procedures, or other functions vested in the Commission and to otherwise ensure compliance with the provisions of 5 U.S.C. 7201.

7. To disclose information to the Federal Labor Relations Authority or its General Counsel when requested in connection with investigations of allegations of unfair labor practices or matters before the Federal Service Impasses Panel.

8. To disclose relevant and necessary information to designated officers and employees of agencies, offices and other establishments in all branches of the Federal Government for:

(a) conducting suitability or security investigations,

(b) classifying jobs,

(c) hiring or retaining employees,

(d) evaluating qualifications, suitability and loyalty to the United States Government,

(e) granting access to classified information or restricted areas,

(f) letting a contract, issuing a license, grant, or other benefit, or

(g) providing a service performed under a contract or other agreement.

9. To disclose information to the appropriate Federal, State, local, tribal, foreign or other public authority responsible for investigating, prosecuting, enforcing or implementing a statute, rule, regulation or order when OPM-FIS becomes aware of an indication of a violation or potential violation of civil or criminal law or regulation.

10. To disclose information to a congressional office in response to an inquiry made on behalf of an individual. Information will only be released to a congressional office if OPM receives a notarized authorization or signed statement under 28 U.S.C. 1746 from the subject of the investigation.

11. To disclose information to approved university officials to view resumes of their participating students to ensure the accuracy of the student's resume. RNO information will not be released to university officials.

12. To disclose information to approved agency officials to obtain names and resumes of participating students available for employment. RNO information will not be released to hiring officials.

POLICIES AND PRACTICES OF STORING, RETRIEVING, SAFEGUARDING, RETAINING, AND DISPOSING OF RECORDS IN THE SYSTEM:

STORAGE:

SFS maintains these records in an electronic database.

RETRIEVABILITY:

Records in SFS may be retrieved by name and email address.

SAFEGUARDS:

OPM has adopted appropriate administrative, technical, and physical controls in accordance with its Automated Information Systems Security Program to protect information in the SFS database. OPM restricts access to all of these records to only those OPM employees who are SFS Program Staff and authorized ADMIN Module Users.

RETENTION AND DISPOSAL:

Records associated with individuals maintained in the SFS database records are retained for up to ten years after the last activity associated with an individual record; and then archived and provided on request to the National Science Foundation under the agreement between OPM and the NSF for the operation of the SFS Program.

The SFS Program has furnished the proposed schedule to the OPM Records Management Office to enable them to proceed with the process of establishing a Records Retention Schedule with NARA.

SYSTEM MANAGER AND ADDRESS:

Associate Director, Human Resources Solutions, Office of Personnel Management, Room 4351, 1900 E Street NW., Washington, DC 20415-4000.

NOTIFICATION AND RECORD ACCESS PROCEDURE:

Individuals wishing to determine whether this system of records contains information about them may do so by writing to FOIA, OPM, ATTN: Trina Porter, FOIA Officer, 1900 E Street NW., Room 5415, Washington, DC 20415-7900.

Individuals must furnish the following information for their records to be located:

1. Full name.

2. Date and place of birth.

3. Social security number.

4. Signature.

5. Available information regarding the type of information requested.

6. The reason why the individual believes this system contains information about him/her.

7. The address to which the information should be sent.

Individuals requesting access must also comply with OPM's Privacy Act regulations regarding verification of identity and access to records (5 CFR part 297).

CONTESTING RECORD PROCEDURE:

Individuals wishing to request amendment of records about them should write to Kathryn Roberson, Manager, SFS, 200 Granby Street, Suite 500, Norfolk, VA, 23510-1886 and furnish the following information for their records to be located:

1. Full name.

2. Date and place of birth.

3. Social Security Number.

4. Signature.

5. Precise identification of the information to be amended.

1.

Individuals requesting amendment must also follow OPM's Privacy Act regulations regarding verification of identity and amendment to records (5 CFR part 297).

RECORD SOURCE CATEGORIES:

Information in this system of records is obtained from:

1. The individual to whom the information applies.

2. Authorized officials from participating agencies or academic institutions

SYSTEM EXEMPTIONS:

None.

[FR Doc. 2014-16952 Filed 7-17-14; 8:45 am]

BILLING CODE 6325-38-P